DEPARTMENT OF THE TREASURY

Internal Revenue Service

26 CFR Part 301

Procedure and Administration

CFR Correction

This rule is being published by the Office of the Federal Register to correct an editorial or technical error that appeared in the most recent annual revision of the Code of Federal Regulations.

In Title 26 of the Code of Federal Regulations, Parts 300 to 499, revised as of April 1, 2023, amend section 301.6721-1 by reinstating paragraph (b)(6) to read as follows:

§ 301.6721-1 Failure to file correct information returns.

* * * * *

(b) * * *

(6) Application to returns not due on February 28, or March 15. For returns that are not due on February 28 or March 15 (for example, Forms 8300 reporting certain cash payments of $10,000 or more), the penalty is $15 if the failure is corrected within 30 days. If the failure is corrected after 30 days, the penalty is $50 rather than $30. There is no period during which the penalty is reduced to $30 under paragraph (b)(2) of this section.

* * * * *

[FR Doc. 2024-01924 Filed 1-29-24; 8:45 am]

BILLING CODE 0099-10-P